SECURITIES AND EXCHANGE COMMISSION

Sunshine Act Meeting

Notice is hereby given, pursuant to the provisions of the Government in the Sunshine Act, Public Law 94-409, that the Securities and Exchange Commission will hold an Open Meeting on November 2, 2011 at 9 a.m., in the Auditorium, Room L-002, to hear oral argument in an appeal by Wendy McNeeley, CPA, from an initial decision of an administrative law judge.

The law judge found that McNeeley engaged in improper professional conduct as defined in the Commission's Rule of Practice 102(e) by engaging in highly unreasonable conduct that resulted in a violation of applicable professional standards in circumstances in which McNeeley knew, or should have known, that heightened scrutiny was warranted. The law judge determined that McNeeley should be denied the privilege of appearing or practicing as an accountant before the Commission for one year.

Issues likely to be considered at oral argument include whether McNeeley engaged in improper professional conduct as defined in the Commission's Rule of Practice 102(e) and, if so, the extent to which, under the circumstances, sanctions are warranted.

For further information, please contact the Office of the Secretary at (202) 551-5400.

Dated: October 26, 2011.
Elizabeth M. Murphy,
Secretary.

[FR Doc. 2011-28210 Filed 10-27-11; 11:15 am]

BILLING CODE 8011-01-P